DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: StormReady, TsunamiReady and StormReady/TsunamiReady Application Forms.

OMB Control Number: 0648-0419.

Form Number(s): None.

Type of Request: Regular submission.

Burden Hours: 240.

Number of Respondents: 120.

Average Hours per Response: 2.

Needs and Uses: StormReady and TsunamiReady are voluntary programs offered as a means of providing guidance and incentive to officials interested in improving their respective hazardous weather operations. The StormReady Application Form, TsunamiReady Application Form and TsunamiReady/StormReady Application Form will be used by localities to apply for initial StormReady or TsunamiReady and StormReady recognition and renewal of that recognition every six years. A typical StormReady and/or TsunamiReady community would use one of these forms 2 times every 10 years. The government will use the information collected to determine whether a community has met all of the criteria to receive StormReady and/or TsunamiReady recognition. This information collection supports Public Law 109-424, the Tsunami Warning and Education Act, specifically Section 5, which describes the development of a “community-based tsunami hazard mitigation program to improve tsunami preparedness of at-risk areas in the United States and its territories.”

Affected Public: State, Local or Tribal Government; business or other for-profit organizations.

Frequency: Every six years.

Respondent's Obligation: Voluntary.

OMB Desk Officer: Nicholas Fraser, (202) 395-5887.

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent within 30 days of publication of this notice to Nicholas Fraser, OMB Desk Officer, FAX number (202) 395-7285, or Nicholas_A._Fraser@omb.eop.gov.

Dated: May 7, 2009.
Gwellnar Banks,
Management Analyst, Office of the Chief Information Officer.

[FR Doc. E9-11007 Filed 5-11-09; 8:45 am]

BILLING CODE 3510-22-P